DEPARTMENT OF ENERGY

Federal Energy Regulatory Commission

Combined Notice of Filings #1

Take notice that the Commission received the following electric corporate filings:

Docket Numbers: EC14-140-000; EC14-141-000.

Applicants: Dynegy Inc., Dighton Power, LLC, Elwood Energy LLC, EquiPower Resources Management, LLC, Kincaid Generation, L.L.C., Lake Road Generating Company, L.P., Liberty Electric Power, LLC, MASSPOWER, Milford Power Company, LLC, Richland-Stryker Generation LLC, Brayton Point Energy, LLC

Description: Response to January 16, 2015 Request for Additional Information and Request for Shortened Comment Period of the Dynegy Applicants.

Filed Date: 2/6/15.

Accession Number: 20150206-5215.

Comments Due: 5 p.m. ET 2/23/15.

Docket Numbers: EC14-140-000; EC14-141-000.

Applicants: Dynegy Inc., Dighton Power, LLC, Elwood Energy LLC, EquiPower Resources Management, LLC, Kincaid Generation, L.L.C., Lake Road Generating Company, L.P., Liberty Electric Power, LLC, MASSPOWER, Milford Power Company, LLC, Richland-Stryker Generation LLC, Brayton Point Energy, LLC.

Description: Supplement to September 11, 2014 Section 203 Joint Applications of the Dynegy Applicants Regarding Settlement with the Independent Market Monitor for PJM Interconnection, L.L.C.

Filed Date: 2/6/15.

Accession Number: 20150206-5216.

Comments Due: 5 p.m. ET 2/23/15.

Docket Numbers: EC15-69-000.

Applicants: Palouse Wind, LLC.

Description: Application for Authorization for Disposition of Jurisdictional Facilities and Request for Expedited Action of Palouse Wind, LLC.

Filed Date: 2/6/15.

Accession Number: 20150206-5283.

Comments Due: 5 p.m. ET 2/27/15.

Docket Numbers: EC15-70-000.

Applicants: Utah Red Hills Renewable Park, LLC.

Description: Application for Authorization for Disposition of Jurisdictional Facilities and Requests for Waivers and Confidential Treatment of Utah Red Hills Renewable Park, LLC.

Filed Date: 2/6/15.

Accession Number: 20150206-5288.

Comments Due: 5 p.m. ET 2/27/15.

Take notice that the Commission received the following electric rate filings:

Docket Numbers: ER10-2331-030; ER14-630-007; ER10-2319-023; ER10-2317-023; ER10-2326-028; ER14-1468-007; ER13-1351-005; ER10-2330-029.

Applicants: J.P. Morgan Ventures Energy Corporation, AlphaGen Power LLC, BE Alabama LLC, BE CA LLC, Cedar Brakes I, L.L.C., KMC Thermo, LLC, Florida Power Development LLC, Utility Contract Funding, L.L.C.

Description: Supplement to January 20, 2015 Notice of Non-Material Change in Status of the J.P. Morgan Sellers.

Filed Date: 2/9/15.

Accession Number: 20150209-5089.

Comments Due: 5 p.m. ET 3/2/15.

Docket Numbers: ER10-2543-003; ER14-1153-002; ER11-2159-004; ER10-2604-008; ER10-2602-011; ER10-2609-010; ER10-2606-010.

Applicants: Verso Androscoggin LLC, Verso Androscoggin Power LLC, Verso Maine Energy LLC, Luke Paper Company, New Page Energy Services, Inc., Consolidated Water Power Company, Escanaba Power Company.

Description: Notice of Non-Material Change in Status of the Verso MBR and NewPage MBR Entities.

Filed Date: 2/6/15.

Accession Number: 20150206-5281.

Comments Due: 5 p.m. ET 2/27/15.

Docket Numbers: ER12-1179-022.

Applicants: Southwest Power Pool, Inc.

Description: Compliance filing per 35: Amendment in Docket ER12-1179-021—Integrated Marketplace to be effective 3/1/2014.

Filed Date: 2/6/15.

Accession Number: 20150206-5239.

Comments Due: 5 p.m. ET 2/27/15.

Docket Numbers: ER14-2445-004.

Applicants: Midcontinent Independent System Operator, Inc.

Description: Compliance filing per 35: 2015-02-06 Hurdle Rate Errata Compliance Filing to be effective 7/17/2014.

Filed Date: 2/6/15.

Accession Number: 20150206-5228.

Comments Due: 5 p.m. ET 2/27/15.

Docket Numbers: ER15-1011-000.

Applicants: Nevada Power Company.

Description: § 205(d) rate filing per 35.13(a)(2)(iii): Rate Schedule143 NPC Concurrence with CAISO to be effective 2/25/2015.

Filed Date: 2/6/15.

Accession Number: 20150206-5229.

Comments Due: 5 p.m. ET 2/27/15.

Docket Numbers: ER15-1012-000.

Applicants: L'Anse Warden Electric Company.

Description: Compliance filing per 35: Tariff Amendment to be effective 4/7/2015.

Filed Date: 2/6/15.

Accession Number: 20150206-5235.

Comments Due: 5 p.m. ET 2/27/15.

Take notice that the Commission received the following public utility holding company filings:

Docket Numbers: PH15-9-000.

Applicants: Apollo Management VI, L.P., Verso Corporation.

Description: Apollo Management VI, L.P., et. al. submits FERC 65-B Waiver Notification.

Filed Date: 2/6/15.

Accession Number: 20150206-5299.

Comments Due: 5 p.m. ET 2/27/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 9, 2015.
Nathaniel J. Davis, Sr.,
Deputy Secretary.

[FR Doc. 2015-03107 Filed 2-13-15; 8:45 am]

BILLING CODE 6717-01-P